ENVIRONMENTAL PROTECTION AGENCY

40 CFR Part 52

[EPA-R06-OAR-2018-0111; FRL-9976-03—Region 6]

Approval and Promulgation of Implementation Plans; Louisiana; 2008 8-Hour Ozone Maintenance Plan Revision for Baton Rouge

AGENCY: Environmental Protection Agency (EPA).

ACTION: Proposed rule.

SUMMARY: Pursuant to the Federal Clean Air Act (CAA or the Act), the Environmental Protection Agency (EPA) is proposing to approve a State Implementation Plan (SIP) revision submitted by the State of Louisiana on January 31, 2018, revising the 2008 8-hour ozone maintenance plan and requesting a relaxation of the Federal Reid Vapor Pressure (RVP) requirements for the five-parish Baton Rouge area. EPA is proposing to determine that the relaxation of the RVP requirement would not interfere with attainment or maintenance of the NAAQS or with any other CAA requirement.

DATES: Written comments must be received on or before May 14, 2018.

ADDRESSES: Submit your comments, identified by Docket No. EPA-R06-OAR-2018-0111, at http://www.regulations.gov or via email jacques.wendy@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact Ms. Wendy Jacques, (214) 665-7395, jacques.wendy@epa.gov. For the full EPA public comment policy, information about CBI or multimedia submissions, and general guidance on making effective comments, please visit http://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Ms. Wendy Jacques, (214) 665-7395, jacques.wendy@epa.gov. To inspect the hard copy materials, please schedule an appointment with Ms. Wendy Jacques or Mr. Bill Deese at 214-665-7253.

SUPPLEMENTARY INFORMATION: Throughout this document wherever “we,” “us,” or “our” is used, we mean the EPA.

I. Background

A. The Baton Rouge Area and Requirements for Low RVP Gasoline

In 2008 we revised the 8-hour ozone NAAQS from 0.08 part per million (ppm) to 0.075 ppm. (73 FR 16436, March 27, 2008.) The Baton Rouge area, consisting of five parishes (Ascension, East Baton Rouge, Iberville, Livingston, and West Baton Rouge), was designated nonattainment for the 2008 ozone NAAQS (77 FR 30088, May 21, 2012). In 2016 we approved a SIP revision to provide for maintenance of the NAAQS in the area (maintenance plan) and redesignated the area to attainment (81 FR 95051, December 27, 2016). Among the air pollution controls included in the maintenance plan was the continued use of low RVP gasoline in the area.

On April 19, 1987 (52 FR 31274), EPA determined that gasoline nationwide was becoming increasingly volatile, causing an increase in evaporative emissions from gasoline-powered vehicles and equipment. Under CAA section 211(c), EPA promulgated regulations on March 22, 1989 (54 FR 11868) that set maximum limits for the RVP of gasoline sold during the regulatory control periods that were established on a state-by-state basis in the final rule. On June 11, 1990 (55 FR 23658), EPA promulgated more stringent volatility controls establishing maximum RVP standards of 9.0 pounds per square inch (psi) or 7.8 psi (depending on the state, the month, and the area's initial ozone attainment designation with respect to the 1-hour ozone NAAQS).

B. Revision to the Baton Rouge Area Maintenance Plan for the 2008 Ozone NAAQS

The December 12, 1991 (56 FR 64704), Phase II rulemaking explains that EPA believes that relaxation of an applicable RVP standard is best accomplished in conjunction with the redesignation process. In order for an ozone nonattainment area to be redesignated as an attainment area, section 107(d)(3) of the Act requires the state to make a showing, pursuant to section 175A of the Act, that the area is capable of maintaining attainment for the ozone NAAQS for ten years after redesignation. Depending on the area's circumstances, this maintenance plan will either demonstrate that the area is capable of maintaining attainment for ten years without the more stringent volatility standard or that the more stringent volatility standard may be necessary for the area to maintain its attainment with the ozone NAAQS. Therefore, in the context of a request for redesignation, EPA will not relax the volatility standard unless the state requests a relaxation and the maintenance plan demonstrates, to the satisfaction of EPA, that the area will maintain attainment for ten years without the need for the more stringent volatility standard.

Louisiana did not request relaxation of the applicable 7.8 psi federal RVP standard when the Baton Rouge area was initially redesignated to attainment for the 2008 8-hour ozone NAAQS. Louisiana is now requesting that EPA relax the federal 7.8 psi RVP requirement for the Baton Rouge area by approving its revised maintenance plan that includes modeling demonstrating the continuous attainment of the 2008 8-hour ozone NAAQS without the RVP requirement.

II. The EPA's Evaluation

A. Demonstration That the 2008 Ozone NAAQS Will Continue To Be Maintained in the Baton Rouge Area

On January 31, 2018, Louisiana submitted a SIP revision making changes to the maintenance plan for the Baton Rouge area. This revision demonstrates that the relaxation of the 7.8 psi federal RVP requirement would have no impact on maintaining the 2008 8-hour NAAQS. Louisiana's analysis utilized EPA's 2014 Motor Vehicle Emissions Simulator (MOVES2014a) emission modeling system to project revised on-road and non-road mobile source emission inventories for the 2011 base year and future years 2022 and 2027.

Table 1 below is a comparison of daily nitrogen oxide (NOX) and volatile organic compounds (VOC) emissions in 2011, 2022, and 2027 for on-road, non-road, point, and non-point sectors of the five parish Baton Rouge area. Relative changes are shown for the Maintenance Plan (MP) Inventory from 2011 to 2022 and 2027, the updated inventory (UI) and the relaxed 9.0 psi RVP scenario inventory for the same years.

Table 1—Comparison of Daily NOX and VOC Emissions, tons per day (tpd) in 2011, 2022, and 2027
| 2011: MP | 2011: UI/7.8 | 2022: MP | 2022: UI/7.8 | 2022: UI/9.0 | 2027: MP | 2027: UI/7.8 | 2027: UI/9.0
NOX:
On-road + | 38.4 | 37.5 | 14.4 | 10.8 | 10.8 | 11.0 | 6.8 | 6.8
Non-road + | 27.3 | 28.1 | 12.6 | 18.5 | 18.5 | 15.2 | 15.3 | 15.3
Nonpoint * | 17.1 | 17.1 | 17.9 | 17.9 | 17.9 | 17.9 | 17.9 | 17.9
Point * | 74.2 | 74.2 | 74.2 | 74.2 | 74.2 | 74.2 | 74.2 | 74.2
Total | 157.0 | 156.9 | 119.1 | 121.3 | 121.4 | 118.3 | 114.2 | 114.2
% Difference from 2011 |  |  | −24.1% | −22.7% | −22.7% | −24.6% | −27.2% | −27.2%
VOC:
On-road + | 19.2 | 19.0 | 13.0 | 10.3 | 10.5 | 11.4 | 7.9 | 8.1
Non-road + | 8.7 | 10.3 | 6.5 | 6.3 | 6.6 | 6.1 | 6.1 | 6.4
Nonpoint * | 82.6 | 82.6 | 90.5 | 90.5 | 90.5 | 92.7 | 92.7 | 92.7
Point * | 33.6 | 33.6 | 33.6 | 33.6 | 33.6 | 33.6 | 33.6 | 33.6
Total | 144.1 | 145.5 | 143.6 | 140.7 | 141.2 | 143.8 | 140.3 | 140.8
% Difference from 2011 |  |  | −0.3% | −3.3% | −2.9% | −0.2% | −3.5% | −3.2%
* Average annual day emissions from the Maintenance Plan.
+ Average August day emissions estimated with MOVES; average annual day emissions for non-road ALM and 2011 NEIv2.

Louisiana's analysis shows consistent decreases in the Maintenance Plan inventory from 2011 to both future years for NOX and VOC. The updated NOX inventory shows a smaller 2011-2022 reduction of 23 percent, but a larger 2011-2027 reduction of 27 percent than the Maintenance Plan inventory. The updated VOC inventory shows a larger reduction of 3.3-3.5 percent for 2022 and 2027 years than the existing Maintenance Plan inventory. The 9.0 psi RVP scenarios in 2022 and 2027 indicate no change in NOX and only a small change of 0.2-0.3 percent increase in VOC.

B. Demonstration That Motor Vehicle Emissions Budgets (MVEBs) Are Approvable

The maintenance plan creates MVEBs for criteria pollutants and/or their precursors to address pollution from cars and trucks. The MVEB is the amount of emissions allowed in the State Implementation Plan (SIP) for on-road motor vehicles; it establishes an emissions ceiling for the regional transportation network. The previously approved Maintenance Plan established MVEBs for the Baton Rouge area for the years 2022 and 2027. Using the MOVES2014a model and evaluating the 9.0 psi RVP scenarios in 2022 and 2027, the average daily on-road NOX and VOC tpd emissions are less than the previously approved budgets. Table 2 below is a comparison of these on-road emissions projections.

Table 2—Comparison of Baton Rouge On-Road Emissions
[tpd]
Year | 2022: 7.8 | 2022: UI/9.0 | 2027: 7.8 | 2027: UI/9.0
NOX | * 14.37 | 10.78 | * 10.95 | 6.79
VOC | * 13.19 | 10.52 | * 11.55 | 8.09
* MVEBs approved 12/27/2016 (81 FR 95051).

The Transportation Conformity Rule at 40 CFR 93.101 defines a “safety margin” as an amount by which the total projected emissions from all sources of a given pollutant are less than the total emissions that would satisfy the applicable requirement for reasonable further progress, attainment, or maintenance. This would represent emission reductions of a given pollutant in the SIP beyond those needed to demonstrate maintenance. The available safety margin, once quantified, may be allocated towards projected on-road emissions to establish MVEBs for purposes of conformity. The State has demonstrated that the total revised NOX and VOC emissions in 2022 and 2027 are less than those emissions in the 2011 base year, and has quantified the total available safety margin for each pollutant. The calculated safety margin amounts are as follows: NOX 35.5 tpd/VOC 4.3 tpd for 2022 and NOX 42.7 tpd/VOC 4.7 tpd for 2027. Table 3 below summarizes the average daily on-road NOX and VOC emissions added to the revised 2022 and 2027 on-road inventories to result in the MVEB levels recommended.

Table 3—Safety Margin Allocation
| 2022: UI/9.0 RVP | 2027: UI/9.0 RVP
NOX:
On-road (tpd) | 10.8 | 6.8
Allocated safety margin (tpd) | 3.57 | 4.15
MVEB (tpd) | 14.37 | 10.95
VOC:
On-road (tpd) | 10.5 | 8.1
Allocated safety margin (tpd) | 2.69 | 3.45
MVEB (tpd) | 13.19 | 11.55

C. Demonstration That the SIP Revision Will Not Interfere With Any Other Clean Air Act Requirement

To support Louisiana's request to relax the federal RVP requirement in the Baton Rouge area, the state must demonstrate that the requested change will satisfy section 110(l) of the CAA. Section 110(l) requires that a revision to the SIP not interfere with any applicable requirement concerning attainment and reasonable further progress (as defined in section 171), or any other applicable requirement of the Act. EPA's criterion for determining the approvability of the SIP revision is whether the noninterference demonstration associated with the relaxation request satisfies section 110(l). The modeling associated with Louisiana's previously approved maintenance plan for the 2008 8-hour ozone NAAQS is premised upon the 7.8 psi RVP requirements. The revised maintenance plan is based on allowing a relaxed requirement of 9.0 psi RVP. EPA is proposing approval of the revised maintenance plan based on information provided in the revised maintenance plan, modeling results and an evaluation of quality assured air monitoring data previously reviewed as part of the Baton Rouge Nonattainment Area 2008 8-hour Ozone NAAQS Redesignation rulemaking (81 FR 95051, December 27, 2016).

The relaxation of the RVP requirement would not impact emission levels of any pollutant except VOCs which indirectly could impact ozone levels. The updated inventory presented in Table 1 shows that emissions for NOX and VOC in 2022 and 2027 remain well below the levels of those emissions in 2011 of the approved maintenance plan. Because future emissions are well below the level of emissions that provided for attainment of the 2008 ozone standard, the revised plan continues to provide for maintenance of that standard. Point source and non-point source emissions remain unchanged in the revised demonstration. On-road emission results show that there is virtually no change in the amount of expected NOX emission reductions in 2022 and 2027 from 2011. Emissions projection modeling indicate a small increase in projected VOC emissions in on-road and nonroad categories due to the higher gasoline RVP and the elimination of Stage II vapor recovery (82 FR 14822). Table 1 shows that the change will result in a less than 1% change in projected area VOC emissions. Due to the Baton Rouge area being NOX limited, the rate of ozone formation is limited by the amount of NOX present rather than the amount of VOCs present, it is reasonable to conclude that this small VOC increase should not contribute to additional ozone formation. Therefore, we find that this revision will not interfere with any applicable requirement concerning attainment and reasonable further progress (as defined in section 171), or any other applicable requirement of the Act.

III. Proposed Action

We are proposing to approve a revision to the Louisiana SIP that would modify the Baton Rouge area maintenance plan for the 2008 8-hour ozone NAAQS which demonstrates that relaxing the federal RVP requirements for gasoline in the Baton Rouge area would not interfere with the area's maintenance of the 2008 8-hour ozone NAAQS or any applicable requirement of the CAA. We are also proposing to approve the 2022 and 2027 MVEBs included in this maintenance plan revision. The Agency will respond to Louisiana's request to relax the federal RVP requirements for gasoline in the Baton Rouge area in a separate rulemaking.

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Volatile organic compounds.

Authority: 42 U.S.C. 7401 et seq.

Dated: April 3, 2018.
Anne Idsal,
Regional Administrator, Region 6.

[FR Doc. 2018-07678 Filed 4-12-18; 8:45 am]

BILLING CODE 6560-50-P